DEPARTMENT OF COMMERCE

National Oceanic and Atmospheric Administration

RIN 0648-XF450

Western Pacific Fishery Management Council; Public Meeting

AGENCY: National Marine Fisheries Service (NMFS), National Oceanic and Atmospheric Administration (NOAA), Commerce.

ACTION: Notice of a public meeting and hearing.

SUMMARY: The Western Pacific Fishery Management Council (Council) will hold a meeting of its Non-Commercial Fisheries Advisory Committee (NCFAC) to discuss and make recommendations on fishery management issues in the Western Pacific Region.

DATES: The NCFAC will meet on Thursday, June 8, 2017, from 10 a.m. to 12 noon. All times listed are local island times. For specific times and agendas, see SUPPLEMENTARY INFORMATION.

ADDRESSES: The NCFAC will meet at the Council Office, 1164 Bishop St, Suite 1400, Honolulu, HI 96813 and by teleconference. The teleconference will be conducted by telephone. The teleconference numbers are: U.S. toll-free: 1-888-482-3560 or International Access: +1 647 723-3959, and Access Code: 5228220.

FOR FURTHER INFORMATION CONTACT: Kitty M. Simonds, Executive Director, Western Pacific Fishery Management Council; telephone: (808) 522-8220.

SUPPLEMENTARY INFORMATION: Public comment periods will be provided in the agenda. The order in which agenda items are addressed may change. The meeting will run as late as necessary to complete scheduled business.

Schedule and Agenda for the NCFAC Meeting

Thursday, June 8, 2017, 10 a.m.-12 noon

1. Welcome and Introductions

2. Review of Agenda

3. Council Actions for 170th Meeting

A. Options for Fishing Regulations in the Northwestern Hawaiian Islands Monument Expansion Area

B. Research Priorities

i. Cooperative Research

ii. Magnuson Stevens Act Five-year Research Priorities

C. Sustainable Fisheries Fund Marine Conservation Plan

D. Re-specification for Annual Catch Limits for the Main Hawaiian Islands Kona crab Fishery

4. Non-Commercial Fishery Updates

A. Marine Recreational Information Program (MRIP)

i. MRIP Strategic Plan Update

i. MRIP Regional Implementation Plan Update

B. Pacific Islands Regional Implementation Plan Update

5. Non-Commercial Fisheries Module in the Annual Stock Assessment and Fishery Evaluation Reports

6. Non-Commercial Fishery Issues

7. Public Comment

8. Discussion and Recommendations

9. Other Business

Although other non-emergency issues not on the agenda may come before this group for discussion, those issues may not be the subject of formal action during this meeting. Actions will be restricted to those issues specifically listed in this notice and any issues arising after publication of this notice that require emergency action under § 305(c) of the Magnuson-Stevens Fishery Conservation and Management Act, provided the public has been notified of the Council's intent to take final action to address the emergency.

Special Accommodations

The meeting is physically accessible to people with disabilities. Requests for sign language interpretation or other auxiliary aids should be directed to Kitty M. Simonds, (808) 522-8220 (voice) or (808) 522-8226 (fax), at least 5 days prior to the meeting date.

Authority: 16 U.S.C. 1801 et seq.

Dated: May 22, 2017.
Tracey L. Thompson,
Acting Deputy Director, Office of Sustainable Fisheries, National Marine Fisheries Service.

[FR Doc. 2017-10774 Filed 5-25-17; 8:45 am]

BILLING CODE 3510-22-P